DEPARTMENT OF COMMERCE

Census Bureau

Proposed Information Collection; Comment Request; Geographic Partnership Programs

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 5, 2012.

ADDRESSES: Direct all written comments to Diana Hynek, Departmental Paperwork Clearance Officer, Department of Commerce, Room 6616, 14th and Constitution Avenue NW., Washington, DC 20230 (or via the Internet at dHynek@doc.gov).

FOR FURTHER INFORMATION CONTACT: Requests for additional information or copies of the information collection instrument(s) and instructions should be directed to Gregory Hanks, U.S. Census Bureau, Washington, DC 20233-7400, (301) 763-3093 (or via email at Gregory.F.Hanks.Jr@census.gov).

SUPPLEMENTARY INFORMATION:

I. Abstract

The mission of the Geography Division within the Census Bureau is to plan, coordinate, and administer all geographic and cartographic activities needed to facilitate Census Bureau statistical programs throughout the United States and its territories. The Geography Division manages programs to continuously update features, boundaries, addresses, and geographic entities in the Master Address File/Topologically Integrated Geographic Encoding and Referencing System (MAF/TIGER) database (MTDB). The Geography Division also conducts research into geographic concepts, methods, and standards needed to facilitate Census Bureau data collection and dissemination programs.

Geographic Partnership Programs (GPPs) allow designated participants, following Census Bureau guidelines, to review, update, and suggest modifications to addresses, features, boundaries, and geographic entities to maintain the Census Bureau MTDB and to ensure the accurate reporting of data from censuses and surveys. Because tribal, state, and local governments have address data, spatial data, and current knowledge about where growth and change are occurring in their jurisdictions, their input into the overall development of a continually maintained address list for censuses and surveys makes a vital contribution. Similarly, the Census Bureau recognizes that tribal, state, and local governments usually have the most authoritative data for addresses, features, and geographic boundaries in their jurisdictions. The benefits to local jurisdictions in sharing that information as part of the Census Bureau's geographic programs are realized in more accurate results of censuses and surveys.

II. Method of Collection

This pre-submission notice is for a generic clearance that will cover a number of activities required for updating the MTDB with participant-provided address and other geographic information, or obtaining address and spatial data for research and evaluation purposes. The information collected in these programs in cooperation with tribal, state, and local governments and other partners is essential to the mission of the Census Bureau and directly contributes to the successful outcome of censuses and surveys conducted by the Census Bureau. The generic clearance allows the Census Bureau to focus its limited resources on actual operational planning, development of procedures, and implementation of programs to update and improve the geographic information maintained in the MTDB.

The Census Bureau will develop guidelines and procedures for tribal, state, and local government submissions of address data and geographic boundaries, and will outline the mutual roles and responsibilities of each party within each Geographic Partnership Program. The list below includes typical geographic partnership programs, but is not exhaustive of all activities that may be performed under this generic clearance. The Census Bureau will follow the approved procedure when submitting any additional activities not specifically listed here.

A. Geographic Support System Initiative (GSS-I)

The GSS-I is an integrated program designed to improve address coverage, obtain continual spatial feature updates, and enhance the quality assessment and measurement for the MTDB. The GSS-I builds on the accomplishments of the last decade's MAF/TIGER Enhancement Program (the MTEP) which redesigned the MTDB, improved the positional accuracy of TIGER spatial features, and emphasized quality measurement. The Census Bureau plans on a continual update process for the MAF/TIGER throughout the decade to support current surveys, including the American Community Survey. Major participants are the U.S. Census Bureau with tribal, state, and local governments. The Census Bureau will contact tribal, state, and local governments to obtain files containing their address and spatial data, to explore data exchange opportunities, and share best practices.

B. Redistricting Data Program

The 2010 Census Redistricting Data Program is established in accordance with the provisions of Title 13 U.S.C. 141(C) and provides the 50 States, the District of Columbia, and the Commonwealth of Puerto Rico the opportunity to specify the small geographic areas for which they wish to receive decennial census population totals for the purpose of reapportionment and redistricting. The law requires that the Census Bureau allow those having responsibility for apportionment or districting of each State be given the opportunity to specify geographic areas for which they wish to receive decennial census population counts. The law also requires that by April 1 of the year following the decennial census the Secretary of Commerce will furnish State officials or their designee(s) with population counts for standard census tabulation areas (e.g., counties, cities, census blocks, and Congressional districts) and if provided by the states, legislative districts and voting districts.

The States had the opportunity to verify the inclusion of their voting districts and suggested tabulation block boundary features during 2009 and early 2010, to ensure the voting district boundaries that were used by the Census Bureau are consistent with their submissions. In Phase 4 of the 2010 Redistricting Data Program, scheduled to extend through 2012 and into 2013, States submit new plans for updated congressional and state legislative districts that will be used for retabulating the 2010 Census data to these new redistricted boundaries.

C. School District Review Program (SDRP)

The Census Bureau conducts the SDRP every two years under contract from the National Center for Education Statistics (NCES) of the U.S. Department of Education. The Census Bureau invites state education officials to participate in the review and update of its national inventory of school district boundaries and district information. State education officials collaborate with local superintendents on their responses. The participants review and provide updates and corrections to the elementary, secondary, and unified school district names and Federal Local Education Agency (LEA) identification numbers, school district boundaries, and the grade ranges for which a school district is financially responsible. The participants submit updated digital spatial files back to the Census Bureau.

The Census Bureau uses the updated school district information along with the most current Census population and income data, current population estimates, and tabulations of administrative records data, to form the Census Bureau's estimates of the number of children aged 5 through 17 in low-income families for each school district. These estimates of the number of children in low-income families residing within each school district are the basis of the funding allocation for each school district under Title I of the Elementary and Secondary Education Act as amended by the No Child Left Behind Act of 2001, Public Law (Pub. L.) 107-110.

III. Data

OMB Control Number: 0607-0795.

Form Number: Not available at this time.

Type of Review: Regular submission.

Affected Public: State, local, and tribal governments.

Estimated Number of Respondents: 39,109.

Estimated Time per Response: 5-50 Hours (the 5 hours of burden is for 39,000. governments and the 50 hours is for 100 respondents).

Estimated Total Annual Burden Hours: 200,450.

Estimated Total Annual Cost: No monetary cost to the respondent.

Respondent Obligation: Voluntary.

Legal Authority: Title 13 U.S.C. 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 28, 2011.
Glenna Mickelson,
Management Analyst, Office of the Chief Information Officer.

[FR Doc. 2011-33701 Filed 1-3-12; 8:45 am]

BILLING CODE 3510-07-P